NUCLEAR REGULATORY COMMISSION

Medical Use of Byproduct Material; Announcement of Public Workshop

AGENCY: Nuclear Regulatory Commission.

ACTION: Announcement of public workshop.

SUMMARY: The Nuclear Regulatory Commission (NRC) will be conducting several workshops to inform external stakeholders of the changes made to 10 CFR part 35, Medical Use of Byproduct Material. The purpose of these workshops is to provide stakeholders with the necessary information to promote a successful transition into the revised rule. The revised Part 35 is a risk-informed, and performance-based regulation that focuses on those medical procedures that pose the highest radiological risk to workers, patients, and the public. The revised Part 35 was published in the Federal Register on April 24, 2002 (67 FR 20249), and will become effective on October 24, 2002.

DATES: The workshops will be held on September 10, 2002, September 24, 2002, September 28, 2002, October 9, 2002, and October 16, 2002. All workshops will be conducted between 8 a.m. and 4:30 p.m., eastern standard time.

ADDRESSES: September 10, 2002: Nuclear Regulatory Commission, Two White Flint North, 11555 Rockville Pike, Rockville, Maryland, 20852. Room: Auditorium. Meeting information: Linda Psyk, (301) 415-0215.

September 24, 2002: Radisson Hotel Valley Forge, 1160 First Avenue, King of Prussia, Pennsylvania, 19406. Hotel information: (610) 337-2000. Meeting information: Christine O'Rourke, (610) 337-5386.

September 28, 2002: The Embassy Suites Hotel and Casino—San Juan, 8000 Tartak Street, Carolina, PR 00979. Hotel information: (787) 791-0505. Meeting information: Hector Bermudez, (404) 562-4734.

Note: This workshop will be held mostly in Spanish.

October 9, 2002: Wyndham Lisle, 3000 Warrenville Road, Lisle, IL 60532. Hotel information: (630) 505-1000. Meeting information: Patricia Pelke, (630) 829-9868.

October 16, 2002: Holiday Inn—Arlington, 1507 N. Watson Road, Hwy 360 at Brown Blvd., Arlington, Texas 76006. Hotel information: (817) 640-7712. Meeting information: Jack Whitten, (817) 860-8197.

FOR FURTHER INFORMATION CONTACT: Linda M. Psyk, Office of Nuclear Material Safety and Safeguards, Nuclear Regulatory Commission, Washington, DC 205555-0001, Telephone (301) 415-0215, or e-mail lmp1@nrc.gov.

For those attending the September 10, 2002, workshop, please contact Lucia Lopez in advance at 301-415-7852 to provide information that will facilitate entrance into the building on the day of the meeting. Individuals calling from outside of the Washington, DC metropolitan area may call 1-800-368-5642 and ask for extension 7852.

SUPPLEMENTARY INFORMATION: The workshops will be conducted by means of presentations made by the NRC staff to the attendees. NRC staff will allow time for question and answer sessions.

The workshops are open to the public but the target audience will be members of the regulated medical community who possess a license or permit issued by the NRC, Agreement State or Master Material Licensee, authorizing the use of byproduct material for medical purposes.

Those needing accommodations under the American with Disabilities Act or having special concerns should contact the person listed as point of contact for each meeting.

Dated at Rockville, Maryland, this 1st day of August, 2002.
For the Nuclear Regulatory Commission.
Thomas H. Essig,
Chief, Materials Safety and Inspection Branch, Division of Industrial and Medical Nuclear Safety, Office of Nuclear Materials Safety and Safeguards.

[FR Doc. 02-20084 Filed 8-7-02; 8:45 am]

BILLING CODE 7590-01-P